DEPARTMENT OF ENERGY

Federal Energy Regulatory Commission

[Project No. 477]

Portland General Electric Company; Notice of Authorization for Continued Project Operation

December 22, 2004.

The license for Portland General Electric Company's Bull Run Project No. 477, located on the Sandy, Little Sandy, and Bull Run Rivers in Clackamas County, Oregon, was issued for a period ending November 16, 2004. Section 15(a)(1) of the Federal Power Act (FPA), 16 U.S.C. 808(a)(1), requires the Commission, at the expiration of a license term, to issue from year to year an annual license to the then licensee under the terms and conditions of the prior license until a new license is issued, or the project is otherwise disposed of as provided in section 15 or any other applicable section of the FPA.

On November 12, 2002, pursuant to the FPA and the Commission's regulations thereunder, Portland General Electric Company filed an application to surrender the license for Project No. 477. On May 12, 2004, the Commission issued an order that granted the application to surrender, but provided that the licensee is to commence project removal after May 27, 2007, complete project removal by September 7, 2009, and that the surrender will not become effective until fulfillment of all surrender conditions as determined by the Commission and issuance by the Commission of a letter indicating that the surrender is effective. See 107 FERC ¶ 61,158.

Pursuant to section 15 of the FPA, notice is hereby given that an annual license for Project No. 477 is issued to Portland General Electric Company for a period effective November 17, 2004, through November 16, 2005, or until the Commission issues a letter indicating that the surrender granted by the order issued May 12, 2004, is effective, or other disposition under the FPA, whichever comes first. If effectiveness of the surrender (or other disposition) does not take place on or before November 17, 2005, notice is hereby given that, pursuant to 18 CFR 16.18(c), an annual license under section 15(a)(1) of the FPA is renewed automatically without further order or notice by the Commission, unless the Commission orders otherwise.

Linda Mitry,
Deputy Secretary.

[FR Doc. E4-3887 Filed 12-29-04; 8:45 am]

BILLING CODE 6717-01-P